DEPARTMENT OF COMMERCE

International Trade Administration

[A-570-848]

Freshwater Crawfish Tail Meat From the People's Republic of China: Preliminary Results of Antidumping Duty Administrative Review and New Shipper Reviews, and Rescission of Review in Part; 2016-2017

AGENCY: Enforcement and Compliance, International Trade Administration, Department of Commerce.

SUMMARY: The Department of Commerce (Commerce) preliminarily determines that companies covered by the administrative review and new shipper reviews did not make sales of subject merchandise at prices below normal value. We invite interested parties to comment on these preliminary results.

DATES: Applicable October 16, 2018.

FOR FURTHER INFORMATION CONTACT: Bryan Hansen at (202) 482-3683 (Hubei Nature), Joshua Poole (202) 482-1293 (Anhui Luan), or Hermes Pinilla (202) 482-3477 (Kunshan Xinrui), AD/CVD Operations, Office I, Enforcement and Compliance, International Trade Administration, U.S. Department of Commerce, 1401 Constitution Avenue NW, Washington, DC 20230.

SUPPLEMENTARY INFORMATION:

Background

Commerce is conducting an administrative review and new shipper reviews of the antidumping duty order on freshwater crawfish tail meat from the People's Republic of China (China). The period of review (POR) for the administrative review and the aligned new shipper reviews is September 1, 2016, through August 31, 2017. The administrative review covers one mandatory respondent, Hubei Nature Agriculture Industry Co., Ltd. (Hubei Nature). The new shipper reviews cover Anhui Luan Hongyuan Foodstuffs Co., Ltd. (Anhui Luan) and Kunshan Xinrui Trading Co., Ltd. (Kunshan Xinrui). Commerce preliminarily determines that sales of subject merchandise by Hubei Nature have not been made at prices below normal value. Commerce also preliminarily determines that sales of subject merchandise by Anhui Luan and Kunshan Xinrui have not been made at prices below normal value.

Scope of the Order

The merchandise subject to the antidumping duty order is freshwater crawfish tail meat, which is currently classified in the Harmonized Tariff Schedule of the United States (HTSUS) under subheadings 1605.40.10.10, 1605.40.10.90, 0306.19.00.10, and 0306.29.00.00. On February 10, 2012, Commerce added HTSUS classification number 0306.29.01.00 to the scope description pursuant to a request by U.S. Customs and Border Protection (CBP). On September 21, 2018, Commerce added HTSUS classification numbers 0306.39.0000 and 0306.99.0000 to the scope description pursuant to a request by CBP. While the HTSUS numbers are provided for convenience and customs purposes, the written description is dispositive. A full description of the scope of the order is contained in the Preliminary Decision Memorandum.¹

¹ See Memorandum, “Freshwater Crawfish Tail Meat from the People's Republic of China: Decision Memorandum for the Preliminary Results of the Antidumping Duty Administrative Review and New Shipper Reviews; 2016-2017,” dated concurrently with, and hereby adopted by, this notice (Preliminary Decision Memorandum).

Rescission of Administrative Review in Part

Pursuant to 19 CFR 351.213(d)(1), Commerce will rescind an administrative review, in whole or in part, if the parties that requested a review withdraw the request within 90 days of the date of publication of the notice of initiation.

The petitioners, the Crawfish Processors Alliance, withdrew their review request for six of the 12 companies for which a review was requested.² This withdrawal of review requests was submitted on February 12, 2018, within the deadline set forth under 19 CFR 351.213(d)(1). Two of these companies also requested a review of their sales of subject merchandise. No other parties requested a review of the remaining four companies. Accordingly, Commerce is rescinding this review, in part, with respect to Deyan Aquatic Products and Food Co., Ltd., Hubei Yuesheng Aquatic Products Co., Ltd., Jingzhou Tianhe Aquatic Products Co., Ltd., and Shanghai Ocean Flavor International Trading Co., Ltd., in accordance with 19 CFR 351.213(d)(1).³

² We initiated an administrative review on the following companies: China Kingdom (Beijing) Import & Export Co., Ltd., Deyan Aquatic Products and Food Co., Ltd., Hubei Nature Agriculture Industry Co., Ltd., Hubei Qianjiang Huashan Aquatic Food and Product Co., Ltd., Hubei Yuesheng Aquatic Products Co., Ltd., Jingzhou Tianhe Aquatic Products Co., Ltd., Nanjing Gemsen International Co., Ltd., Shanghai Ocean Flavor International Trading Co., Ltd., Weishan Hongda Aquatic Food Co., Ltd., Xiping Opeck Food Co., Ltd., Xuzhou Jinjiang Foodstuffs Co., Ltd., Yancheng Hi-King Agriculture Developing Co., Ltd. See Initiation of Antidumping and Countervailing Duty Administrative Reviews, 82 FR 52268 (November 13, 2017).

³ For more details, see the Preliminary Decision Memorandum.

Preliminary Determination of No Shipments

Three companies that received a separate rate in previous segments of the proceeding and are subject to this review reported that they did not have any exports of subject merchandise during the POR.⁴ We requested that CBP report any contrary information.⁵ In response to our inquiry, CBP indicated that these three companies did not have any shipments of the subject merchandise sold to the United States during the POR.⁶ Further, consistent with our practice, we find that it is not appropriate to rescind the review with respect to these companies but, rather, to complete the review and issue appropriate instructions to CBP based on the final results of review.⁷

⁴ See No-Shipment Letters from China Kingdom (Beijing) Import & Export Co., Ltd., Hubei Qianjiang Huashan Aquatic Food and Product Co., Ltd., and Nanjing Gemsen International Co., Ltd., all dated November 30, 2017.

⁵ See CBP message numbers 8103308, 8103309 and 8103310 dated April 13, 2018, available at http://adcvd.cbp.dhs.gov/adcvdweb/.

⁶ See Memorandum, “Re: No shipment inquiry with respect to the companies below during the period 09/01/2016 through 08/31/2017,” dated May 9, 2018.

⁷ See, e.g., Wooden Bedroom Furniture from the People's Republic of China: Final Results and Final Rescission, In Part, of Administrative Review and Final Results of New Shipper Review; 2013, 80 FR 34619 (June 17, 2015).

Separate Rates

Commerce preliminarily determines that seven respondents are eligible to receive separate rates in these reviews.⁸

⁸ See Preliminary Decision Memorandum at 8-10, for more details.

Separate Rate for Eligible Non-Selected Respondents

Commerce preliminarily determines that the respondents not selected for individual examination, Weishan Hongda Aquatic Food Co., Ltd. (Weishan Hongda), Xiping Opeck Food Co., Ltd. (Xiping Opeck), Xuzhou Jinjiang Foodstuffs Co., Ltd. (Xuzhou Jinjiang), and Yancheng Hi-King Agriculture Developing Co., Ltd. (Yancheng Hi-King) are eligible to receive a separate rate in the administrative review.⁹ Consistent with our practice, we assigned to Weishan Hongda, Xiping Opeck, Xuzhou Jinjiang and Yancheng Hi-King the weighted-average margin calculated for Hubei Nature as the separate rate for the preliminary results of this review.¹⁰

⁹ Id. at 10-11 for more details.

¹⁰ Id.

China-Wide Entity

Commerce's policy regarding conditional review of the China-wide entity applies to this administrative review.¹¹ Under this policy, the China-wide entity will not be under review unless a party specifically requests, or Commerce self-initiates, a review of the entity. Because no party requested a review of the PRC-wide entity in this review, the entity is not under review and the entity's rate is not subject to change (i.e., 223.01 percent).¹²

¹¹ See Antidumping Proceedings: Announcement of Change in Department Practice for Respondent Selection in Antidumping Duty Proceedings and Conditional Review of the Nonmarket Economy Entity in NME Antidumping Duty Proceedings, 78 FR 65963 (November 4, 2013).

¹² See Freshwater Crawfish Tail Meat from the People's Republic of China; Notice of Final Results of Antidumping Duty Administrative Review, 68 FR 19504 (April 21, 2003).

Verification

As provided in section 782(i) of the Act, we verified the information provided by Hubei Nature in the administrative review and Kunshan Xinrui in the new shipper review of freshwater crawfish tail meat from China using standard verification procedures, including on-site inspection of the producer's and exporter's facilities and examination of relevant sales and financial records. Our verification results are outlined in the verification reports for Hubei Nature and Kunshan Xinrui dated concurrently with this notice.

Methodology

Commerce is conducting these reviews in accordance with section 751(a)(1)(B), and 751(a)(2)(B) of the Tariff Act of 1930, as amended (the Act), and 19 CFR 351.214. Export price is calculated in accordance with section 772(c) of the Act. Because China is a non-market economy within the meaning of section 771(18) of the Act, normal value has been calculated in accordance with section 773(c) of the Act.

For a full description of the methodology underlying our conclusions, see the Preliminary Decision Memorandum. The Preliminary Decision Memorandum is a public document and is made available to the public via Enforcement and Compliance's Antidumping and Countervailing Duty Centralized Electronic Service System (ACCESS). ACCESS is available to registered users at https://access.trade.gov, and to all parties in Commerce's Central Records Unit, Room B8024 of the main Department of Commerce building. In addition, a complete version of the Preliminary Decision Memorandum can be found at http://enforcement.trade.gov/frn/. A list of the topics discussed in the Preliminary Decision Memorandum is attached as an Appendix to this notice.

Preliminary Results of Administrative Review

Commerce preliminarily determines that the following weighted-average dumping margins exist for the administrative review covering the period September 1, 2016, through August 31, 2017:

Exporter | Weighted-average margin (percent)
Hubei Nature Agriculture Industry Co., Ltd | 0.00
Weishan Hongda Aquatic Food Co., Ltd | 0.00
Xiping Opeck Food Co., Ltd | 0.00
Xuzhou Jinjiang Foodstuffs Co., Ltd | 0.00
Yancheng Hi-King Agriculture Developing Co., Ltd | 0.00

Preliminary Results of New Shipper Reviews

As a result of the new shipper reviews, Commerce preliminarily determines that the following dumping margins exist covering the period September 1, 2016, through August 31, 2017: ¹³

¹³ Commerce reached these conclusions based on the totality of the circumstances surrounding the reported sale for each company. See Preliminary Decision Memorandum, Bona Fides Analysis section at 4-5.

Exporter | Producer | Weighted-average margin (percent)
Anhui Luan Hongyuan Foodstuffs Co., Ltd | Anhui Luan Hongyuan Foodstuffs Co., Ltd | 0.00
Kunshan Xinrui Trading Co., Ltd | Leping Yongle Food Co., Ltd | 0.00

Disclosure

We intend to disclose calculations performed in these preliminary results to parties within five days after public announcement of the preliminary results.¹⁴

¹⁴ See 19 CFR 351.224(b).

Public Comment

Pursuant to 19 CFR 351.309(c)(ii), interested parties may submit case briefs no later than 30 days after the date of publication of this notice.¹⁵ Rebuttal briefs, limited to issues raised in the case briefs, may be filed no later than five days after the date for filing case briefs.¹⁶ Parties who submit case briefs or rebuttal briefs in this proceeding are encouraged to submit with each argument: (1) A statement of the issue; (2) a brief summary of the argument; and (3) a table of authorities.¹⁷

¹⁵ See 19 CFR 351.309(c).

¹⁶ See 19 CFR 351.309(d).

¹⁷ See 19 CFR 351.309(c)(2) and (d)(2) and 19 CFR 351.303 (for general filing requirements).

Interested parties who wish to request a hearing must submit a written request to the Assistant Secretary for Enforcement and Compliance, U.S. Department of Commerce, filed electronically using ACCESS. An electronically filed document must be received successfully in its entirety by ACCESS by 5:00 p.m. Eastern Time within 30 days after the date of publication of this notice.¹⁸ Hearing requests should contain: (1) The party's name, address, and telephone number; (2) the number of participants; and (3) a list of issues to be discussed. Issues raised in the hearing will be limited to those raised in the respective case briefs.

¹⁸ See 19 CFR 351.310(c).

Unless the deadline is extended, Commerce intends to issue the final results of these reviews, including the results of its analysis of issues raised by parties in their comments, within 120 days after the publication of these preliminary results, pursuant to section 751(a)(3)(A) of the Act and 19 CFR 351.213(h).

Assessment Rates

Upon issuing the final results, Commerce will determine, and U.S. Customs and Border Protection (CBP) shall assess, antidumping duties on all appropriate entries covered by these reviews.¹⁹ If a respondent's weighted-average dumping margin is above de minimis (i.e., 0.50 percent) in the final results of these reviews, we will calculate an importer-specific assessment rate on the basis of the ratio of the total amount of dumping calculated for each importer's examined sales and, where possible, the total entered value of sales. Specifically, Commerce will apply the assessment rate calculation method adopted in Final Modification for Reviews.²⁰ Where an importer- (or customer-) specific ad valorem rate is zero or de minimis, we will instruct CBP to liquidate appropriate entries without regard to antidumping duties.²¹

¹⁹ See 19 CFR 351.212(b)(1).

²⁰ See Antidumping Proceeding: Calculation of the Weighted-Average Dumping Margin and Assessment Rate in Certain Antidumping Duty Proceedings; Final Modification, 77 FR 8103 (February 14, 2012) (Final Modification for Reviews).

²¹ See 19 CFR 351.106(c)(2).

For entries that were not reported in the U.S. sales databases submitted by exporters individually examined during this review, Commerce will instruct CBP to liquidate such entries at the China-wide rate. If Commerce determines that an exporter under review had no shipments of the subject merchandise, any suspended entries that entered under that exporter's case number (i.e., at that exporter's rate) will be liquidated at the China-wide rate.²²

²² See Non-Market Economy Antidumping Proceedings: Assessment of Antidumping Duties, 76 FR 65694, 65695 (October 24, 2011).

For the companies for which the review is rescinded, Commerce will instruct CBP to assess antidumping duties at the rate equal to the cash deposit of estimated antidumping duties required at the time of entry, or withdrawal from warehouse, for consumption, in accordance with 19 CFR 351.212(c)(1)(i). We intend to issue assessment instructions to CBP 15 days after the date of publication of the final results of these reviews.

Cash Deposit Requirements

The following cash deposit requirements will be effective upon publication of the final results of these reviews for shipments of the subject merchandise from China entered, or withdrawn from warehouse, for consumption on or after the publication date, as provided by section 751(a)(2)(C) of the Act: (1) For the subject merchandise exported by the companies listed above that have separate rates, the cash deposit rate will be zero (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in Commerce's presumption that reimbursement of antidumping duties occurred and the subsequent assessment of double antidumping duties.

Notification Regarding Administrative Protective Orders

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation. Commerce is issuing and publishing the preliminary results of these reviews in accordance with sections 751(a)(1), 751(a)(2)(B)(iv), 751(a)(3), 777(i) of the Act, and 19 CFR 351.213, 351.214 and 351.221(b)(4).

Dated: October 2, 2018.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Rescission of Administrative Review in Part

V. Bona Fides Analysis

VI. Verification

VII. Discussion of the Methodology

A. Non-Market-Economy Country Status

B. Surrogate Country

C. Separate Rates

1. Absence of De Jure Control

2. Absence of De Facto Control

3. Separate Rate for Eligible Non-Selected Respondent

D. Fair Value Comparisons

1. Determination of Comparison Method

2. Results of the Differential Pricing Analysis

E. U.S. Price

F. Date of Sale

G. Normal Value

H. Surrogate Values

VIII. Currency Conversion

IX. Recommendation

[FR Doc. 2018-22455 Filed 10-15-18; 8:45 am]

BILLING CODE 3510-DS-P